GENERAL SERVICES ADMINISTRATION

[OMB Control No. 3090-0322; Docket No. 2020-0001; Sequence No. 5]

Information Collection; Prohibition on Certain Telecommunications and Video Surveillance Services or Equipment under Lease Acquisitions

AGENCY: Office of the Chief Acquisition Officer, General Services Administration (GSA).

ACTION: Notice of request for comments.

SUMMARY: In accordance with the Paperwork Reduction Act of 1995, and the Office of Management and Budget (OMB) regulations, GSA invites the public to comment on an extension concerning prohibition on contracting for certain telecommunications and video surveillance services or equipment under lease acquisitions. OMB has approved this information collection for use through February 28, 2021. GSA proposes that OMB extend its approval for use for three additional years beyond the current expiration date.

DATES: GSA will consider all comments received by November 30, 2020.

ADDRESSES: Submit comments on this information collection to https://www.regulations.gov. Submit comments via the Federal eRulemaking portal by searching for “Information Collection 3090-0322”. Select the link “Comment Now” that corresponds with Information Collection 3090-0322. Follow the instructions provided at the “Comment Now” screen. Please include your name, company name (if any), and “Information Collection 3090-0322” on your attached document.

Instructions: Please submit comments only and cite “Information Collection 3090-0322” in all correspondence related to this collection. Comments received generally will be posted without change to regulations.gov, including any personal and/or business confidential information provided. To confirm receipt of your comment(s), please check regulations.gov approximately two-to-three days after submission to verify posting.

FOR FURTHER INFORMATION CONTACT: Mr. Michael Thompson, Procurement Analyst, General Services Acquisition Policy Division, 202-208-1568 or via email at gsarpolicy@gsa.gov.

SUPPLEMENTARY INFORMATION:

A. Purpose

The Paperwork Reduction Act (PRA) of 1995 (44 U.S.C. 3501 et seq.) provides that an agency generally cannot conduct or sponsor a collection of information, and no person is required to respond to, nor be subject to, a penalty for failure to comply with a collection of information, unless that collection has obtained Office of Management and Budget (OMB) approval and displays a currently valid OMB Control Number.

GSA requested and OMB authorized emergency processing of an information collection, as OMB Control Number 3090-0322, for the provision at FAR 52.204-24, Representation Regarding Certain Telecommunications and Video Surveillance Services and the clause at FAR 52.204-25, Prohibition on Contracting for Certain Telecommunications and Video Surveillance Services or Equipment, as used under lease acquisitions. GSA has determined the following conditions have been met:

a. The collection of information is needed prior to the expiration of time periods normally associated with a routine submission for review under the provisions of the Paperwork Reduction Act, because the prohibitions in Section 889 of the John S. McCain National Defense Authorization Act for Fiscal Year 2019 (Pub. L. 115-232) went into effect on August 13, 2020.

b. The collection of information is essential to GSA's mission to ensure GSA complies with Section 889 in order to protect the Government supply chain from risks posed by covered telecommunications equipment or services.

c. GSA cannot comply with the normal clearance procedures because public harm is reasonably likely to result if current clearance procedures are followed.

This requirement supports implementation of Section 889 of the John S. McCain National Defense Authorization Act for Fiscal Year 2019 (Pub. L. 115-232) under lease acquisitions. This section prohibits agencies from procuring, obtaining, extending or renewing a contract with contractors that will provide or use covered telecommunication equipment or services as a substantial or essential component of any system, or as a critical technology as part of any system on or after August 13, 2020 unless an exception applies.

This requirement is implemented in the Federal Acquisition Regulation (FAR) through the provision at FAR 52.204-24, Representation Regarding Certain Telecommunications and Video Surveillance Services or Equipment and the clause at FAR 52.204-25, Prohibition on Contracting for Certain Telecommunications and Video Surveillance Services or Equipment. GSA's Class Deviation CD-2020-15 extends these requirements to lease acquisitions.

This clearance covers the following requirements:

• FAR 52.204-24 requires an offer or to represent whether they will provide or whether they will use any covered telecommunications equipment or services and if so, describe in more detail the use of the covered telecommunications equipment or services; and

• FAR 52.204-25 requires contractors to report covered telecommunications equipment, systems and services identified during performance of a contract.

GSA requested approval of this information collection in order to implement the law. The information will be used by agency personnel to identify and remove prohibited equipment, systems, or services from Government use. Under the Paperwork Reduction Act (PRA) of 1995, Federal agencies must obtain approval from the Office of Management and Budget (OMB) for each collection of information they conduct or sponsor.

B. Annual Reporting Burden

1. FAR 52.204-24 for GSA Lease Acquisitions

Respondents: 3,128.

Responses per Respondent: 1.

Total Responses: 3,128.

Hours per Response: 3.

Total Burden Hours: 9,384.

2. FAR 52.204-25 for GSA Lease Acquisitions

Respondents: 313.

Responses per Respondent: 5.

Total Responses: 1,565.

Hours per Response: 3.

Total Burden Hours: 4,695.

C. Public Comments

Public comments are particularly invited on: Whether this collection of information is necessary; whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division, 1800 F Street NW, Washington, DC 20405, telephone 202-501-4755.

Please cite “Information Collection 3090-0322”, in all correspondence.

Jeffrey A. Koses,
Senior Procurement Executive, Office of Acquisition Policy, Office of Government-wide Policy.

[FR Doc. 2020-21597 Filed 9-29-20; 8:45 am]

BILLING CODE 6820-61-P